DEPARTMENT OF COMMERCE

Foreign-Trade Zones Board

[B-71-2018]

Foreign-Trade Zone (FTZ) 230—Greensboro, North Carolina; Notification of Proposed Production Activity; Patheon Softgels; (Pharmaceutical Products); High Point, North Carolina

The Piedmont Triad Partnership, grantee of FTZ 230, submitted a notification of proposed production activity to the FTZ Board on behalf of Patheon Softgels (Patheon), located in High Point, North Carolina. The notification conforming to the requirements of the regulations of the FTZ Board (15 CFR 400.22) was received on November 7, 2018.

Patheon already has authority to produce certain prescription pharmaceutical products and soft gelatin capsules within Subzone 230C. The current request would add a finished product and a foreign status material/component to the scope of authority. Pursuant to 15 CFR 400.14(b), additional FTZ authority would be limited to the specific foreign-status material/component and specific finished product described in the submitted notification (as described below) and subsequently authorized by the FTZ Board.

Production under FTZ procedures could exempt Patheon from customs duty payments on the foreign-status material/component used in export production. On its domestic sales, for the foreign-status material/component noted below and in the existing scope of authority, Patheon would be able to choose the duty rate during customs entry procedures that applies to gelatin encapsulated mono methyl fumarate capsule (duty-free). Patheon would be able to avoid duty on foreign-status components which become scrap/waste. Customs duties also could possibly be deferred or reduced on foreign-status production equipment.

The material/component sourced from abroad is Mono Methyl Fumarate (duty rate 6.5%). The request indicates the material/component is subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is December 26, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: November 9, 2018.
Elizabeth Whiteman,
Acting Executive Secretary.

[FR Doc. 2018-24933 Filed 11-14-18; 8:45 am]

BILLING CODE 3510-DS-P